DEPARTMENT OF COMMERCE

National Oceanic and Atmospheric Administration

[I.D. 030402B]

Proposed Information Collection; Comment Request; Small-Boat Commercial Fishing Exemptions Social Impacts Study

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before May 7, 2002.

ADDRESSES: Direct all written comments to Madeleine Clayton, Departmental Paperwork Clearance Officer, Department of Commerce, Room 6608, 14th and Constitution Avenue NW, Washington DC 20230 (or via the Internet at MClayton@doc.gov).

FOR FURTHER INFORMATION CONTACT: Requests for additional information or copies of the information collection instrument(s) and instructions should be directed to Dr. Jennifer Sepez, Regional Anthropologist, Alaska Fisheries Science Center, Department of Commerce, National Oceanic and Atmospheric Administration, National Marine Fisheries Service; 7600 Sand Point Way NE, Seattle, WA 98115-0070.

SUPPLEMENTARY INFORMATION:

I. Abstract

The adoption of an area and fishery-specific approach in recently adopted protection measures for threatened and endangered Stellar sea lion populations in Alaska included an exemption for certain small boats in the Unalaska area, allowing for a limited Pacific cod fishery by longliner catcher vessels on the west side of Unalaska Island. Consideration of a similar exemption for small-boats fishing in and around Chignik, Alaska was not adopted. This study will assess and compare the social impacts of the new small-boat fleet regulations on these two fishing communities. The information will provide an improved understanding of the value of small-boat fishing exemptions as a management tool for mitigating social impacts.

II. Method of Collection

Study information will be collected in face-to-face interviews with key individuals. Participation will be entirely voluntary.

III. Data

OMB Number: None.

Form Number: None.

Type of Review: Regular submission.

Affected Public: Individuals or households, and business or other for-profit organizations.

Estimated Number of Respondents: 100.

Estimated Time Per Response: 30 minutes.

Estimated Total Annual Burden Hours: 50 hours.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 28, 2002.
Madeleine Clayton,
Departmental Paperwork Clearance Officer, Office of the Chief Information Officer.

[FR Doc. 02-5621 Filed 3-7-02; 8:45 am]

BILLING CODE 3510-22-S